DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Logbook Family of Forms.

OMB Control Number: 0648-0213.

Form Number(s): None.

Type of Request: Regular (revision and extension of a currently approved information collection).

Number of Respondents: 543.

Average Hours per Response: Catcher Vessel trawl gear daily fishing logbook (DFL), 18 minutes per active response and 5 minutes per inactive response; Catcher vessel longline or pot gear DFL, 28 minutes per active response and 5 minutes per inactive response; 41 minutes per active response and 5 minutes per inactive response for Catcher/processor Longline and Pot Gear daily cumulative production logbook (DCPL); 23 minutes for Buying Station Report; 5 minutes for Shoreside Processor Check-in/Check-out Report; 20 minutes for Product Transfer Report and 14 minutes for Vessel Activity Report.

Burden Hours: 12,510.

Needs and Uses: The Magnuson-Stevens Fishery Conservation and Management Act 16 U.S.C. 1801 et seq. authorizes the North Pacific Fishery Management Council (Council) to prepare and amend fishery management plans for any fishery in waters under its jurisdiction. National Marine Fisheries Service, Alaska Region (NMFS) manages: (1) The crab fisheries in the Exclusive Economic Zone (EEZ) waters off the coast of Alaska under the Fishery Management Plan for Bering Sea and Aleutian Islands Crab; (2) groundfish under the Fishery Management Plan for the Groundfish Fishery of the Bering Sea and Aleutian Islands Management Area; and (3) groundfish under the Fishery Management Plan for Groundfish of the Gulf of Alaska. The International Pacific Halibut Commission (IPHC) and NMFS manage fishing for Pacific halibut (Hippoglossus stenolepis) through regulations established under the authority of the Northern Pacific Halibut Act of 1982. The IPHC promulgates regulations governing the halibut fishery under the Convention between the United States and Canada for the Preservation of the Halibut Fishery of the Northern Pacific Ocean and Bering Sea.

Vessels required to have a Federal Fisheries Permit (FFP) are issued free daily fishing DFLs for harvesters and DCPLs for processors to record groundfish, Crab Rationalization Program (CR) crab, Individual Fishing Quota (IFQ) halibut, IFQ sablefish, Western Alaska Community Development Quota Program (CDQ) halibut, and prohibited species catch (PSC) information. Catcher vessels under 60 ft (18.3 m) length overall are not required to maintain DFLs. Multiple self-copy logsheets within each logbook are available for distribution to the harvester, processor, observer program, and NOAA Fisheries Office for Law Enforcement. The longline or pot gear logbooks have an additional logsheet for submittal to the IPHC.

In addition to the logbooks, this collection includes the buying station report, check-in/out for shoreside processors, product transfer report, and U.S. vessel activity report.

Revision: Paper logbooks for catcher processors with trawl gear and motherships have been discontinued and replaced by eLogs in OMB Control No. 0648-0515.

Affected Public: Business and other for-profit organizations; individuals or households.

Frequency: Daily and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 4, 2015.
Glenna Mickelson,
Management Analyst, Office of the Chief Information Officer.

[FR Doc. 2015-02578 Filed 2-6-15; 8:45 am]

BILLING CODE 3510-22-P